ENVIRONMENTAL PROTECTION AGENCY

[FRL-7474-4]

Voluntary National Guidelines for Management of Onsite and Clustered (Decentralized) Wastewater Treatment Systems

AGENCY: Environmental Protection Agency.

ACTION: Notice of availability.

SUMMARY: The U.S. Environmental Protection Agency (EPA) is making available the final Voluntary National Guidelines for Management of Onsite and Clustered (Decentralized) Wastewater Treatment Systems (referred to here as the Management Guidelines). The purpose of the Management Guidelines is to improve the level of performance of decentralized wastewater treatment systems nationally through improved management programs. The Management Guidelines will help improve system performance by raising the quality of management programs, establishing minimum levels of activity, and institutionalizing the concept of management. Implementation of the Management Guidelines will also provide a greater range of options for cost-effectively meeting wastewater treatment needs and meeting water quality and public health goals. The primary audience for the Management Guidelines are state, tribal and local regulators and community officials that are responsible for regulating onsite and clustered systems.

FOR FURTHER INFORMATION CONTACT: Any questions regarding the content of the Voluntary National Guidelines for Management of Onsite and Clustered (Decentralized) Wastewater Treatment Systems can be addressed to Joyce Hudson by e-mail at hudson.joyce@epa.gov or via U.S. mail to Joyce Hudson, U.S. EPA, Office of Wastewater Management (4204M), 1200 Pennsylvania Avenue, NW., Washington, DC 20460.

SUPPLEMENTARY INFORMATION: Decentralized wastewater treatment systems (commonly referred to as septic systems, private sewage systems, individual sewage systems, onsite sewage disposal systems or package plants) include onsite and clustered systems used to collect, treat, and disperse or reclaim wastewater from individual dwellings, businesses, or small communities and service areas. State agencies report that some of these systems have failed because of inappropriate siting or design or inadequate long-term maintenance. Historically high failure rates in some areas indicate a need for better management of these systems to protect public health and water quality. However, when onsite and clustered wastewater treatment systems are properly managed, they may, in many cases, be the most practical and least expensive way to treat household wastewater. In response to the need for improved management programs, EPA has developed the Management Guidelines to establish a benchmark for effective management. The purpose of the Management Guidelines is to raise the level of performance of onsite and clustered wastewater treatment systems through improved management programs. The Management Guidelines will be supplemented with a handbook for state, tribal, and local governments to use in upgrading management programs. The draft Handbook for Management of Onsite and Clustered (Decentralized) Wastewater Treatment Systems is being published elsewhere in today's Federal Register for public comment.

The Management Guidelines present a set of five model programs based on a comprehensive approach that relies on coordinating the responsibilities and actions among the state, tribal or local regulatory agency, the management entity or service provider and the system owner. The level of management needed increases as the sensitivity of the environment and/or the degree of technological complexity increases. A program's designation increases progressively from Model Program 1 through Model Program 5, reflecting the increased level of management activities needed to achieve increasing water quality and public health goals. Adoption of the Management Guidelines is voluntary, however, EPA encourages states and communities to consider them as a basis for improving their onsite and clustered wastewater management program.

The guidelines apply to both existing communities and to areas of new development that use onsite and clustered wastewater treatment systems of any size for residential and commercial wastewater treatment and dispersal.

Background. Onsite and clustered wastewater treatment systems currently serve about 25 percent of U.S. homes and approximately 33 percent of new development. States report that these wastewater treatment systems have failed because of inappropriate siting or design or inadequate long-term maintenance and that septic tank systems constitute the third most common source of ground water contamination.

In April, 1997, EPA prepared its Response to Congress on the Use of Decentralized Wastewater Treatment Systems. The report concluded that decentralized wastewater treatment technologies offer a cost-effective, long term wastewater solution for many communities. However, the report emphasized that decentralized technologies must be implemented in the context of a responsible management program to consistently achieve water quality and public health goals. The report identified the current lack of management as a barrier to successfully applying these otherwise promising technologies.

In response to the need for improved management, EPA prepared a concept paper in the spring of 1999, which received considerable input from various stakeholders, including other federal agencies, state health agencies, environmental groups, trade associations and public interest groups. The result was a notice of availability of the draft Guidelines for Management of Onsite/Decentralized Wastewater Treatment Systems which was published in the Federal Register on October 6, 2000 (65 FR 59840-59841) for public comment and included an annotated outline of an accompanying manual/handbook. During follow up outreach efforts conducted by EPA, stakeholders raised several key issues concerning the voluntary nature of the Guidelines, their flexibility, and possible implementation issues. EPA has addressed those issues and has received support from representatives of public and private organizations who believe national guidelines are important.

You can get copies of the Management Guidelines by downloading the document at http://www.epa.gov/owm/mtb/decent/. Hard copies may be obtained from USEPA Publications Clearing House, PO Box 42419, Cincinnati, OH 45242. You may access this Federal Register notice electronically through the EPA Internet under the Federal Register listings at http://www.epa.gov/fedrgstr/.

Dated: March 18, 2003.
G. Tracy Mehan, III,
Assistant Administrator, Office of Water.

[FR Doc. 03-7506 Filed 3-27-03; 8:45 am]

BILLING CODE 6560-50-P